DEPARTMENT OF LABOR

Employment Standards Administration

Proposed Collection; Comment Request

ACTION: Notice.

SUMMARY: The Department of Labor, as part of its continuing effort to reduce paperwork and respondent burden, conducts a preclearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Employment Standards Administration is soliciting comments concerning the proposed collection: Housing Terms and Conditions (WH-521). A copy of the proposed information collection request can be obtained by contacting the office listed below in the ADDRESSES section of this Notice.

DATES: Written comments must be submitted to the office listed in the ADDRESSES section below on or before May 10, 2005.

ADDRESSES: Ms. Hazel M. Bell, U.S. Department of Labor, 200 Constitution Ave., NW., Room S-3201, Washington, DC 20210, telephone (202) 693-0418, fax (202) 693-1451, e-mail bell.hazel@dol.gov. Please use only one method of transmission for comments (mail, fax, or E-mail).

SUPPLEMENTARY INFORMATION:

I. Background

The Migrant and Seasonal Agricultural Worker Protection Act (MSPA), 29 U.S.C. 1801 et seq., Section 201(c) requires any farm labor contractor, agricultural employer or agricultural association providing housing to any migrant agricultural worker to post in a conspicuous place, or present to the migrant worker, a statement of any housing occupancy terms and conditions. In addition, MSPA Section 201(g) requires a farm labor contractor, agricultural employer or agricultural association providing housing to any migrant agricultural worker to give such information in English, or as necessary and reasonable, in a language common to the worker and that the Department of Labor (DOL) makes forms available to provide such information. The implementing regulations for the MSPA set forth, at 29 CFR 500.75(f) and (g), the housing terms that a farm labor contractor, agricultural employer or agricultural association providing housing to any migrant agricultural worker must post or give in a written statement to the worker. Regulation 29 CFR 500.1(i)(2) provides for Form WH-521 that a farm labor contractor, agricultural employer or agricultural association may use, at its option, to satisfy MSPA requirements. Form WH-521 is an optional form that a farm labor contractor, agricultural employer or agricultural association may post or present to a migrant agricultural worker to list the housing terms and conditions. While use of the Form WH-521 is optional, the MSPA requires disclosure of the information. This information collection is currently approved for use through September 30, 2005.

II. Review Focus

The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility and clarity of the information to be collected; and

• Minimize the burden of the collection of information on those who are to respond, including through the use of appropriate automated, electronic, mechanical, or other technological collection techniques or other forms of information technology, e.g., permitting electronic submissions of responses.

III. Current Actions

The Department of Labor seeks the approval of the extension of this information collection to carry out it's statutory responsibility to ensure that farm labor contractor, agricultural employer or agricultural association providing housing to any migrant agricultural worker to post in a conspicuous place, or present to the migrant worker, a statement of any housing occupancy terms and conditions.

Type of Review: Extension.

Agency: Employment Standards Administration.

Titles: Housing Terms and Conditions.

OMB Number: 1215-0146.

Agency Numbers: WH-521.

Affected Public: Farms; Individual or households; Business or other for-profit.

Total Respondents: 1,300.

Total Annual responses: 1,300.

Estimated Total Burden Hours: 650.

Estimated Time Per Response: 30 minutes.

Frequency: On Occasion.

Total Burden Cost (capital/startup): $0.

Total Burden Cost (operating/maintenance): $0.

Comments submitted in response to this notice will be summarized and/or included in the request for Office of Management and Budget approval of the information collection request; they will also become a matter of public record.

Dated: March 7, 2005.
Bruce Bohanon,
Chief, Branch of Management Review and Internal Control, Division of Financial Management, Office of Management, Administration and Planning, Employment Standards Administration.

[FR Doc. 05-4801 Filed 3-10-05; 8:45 am]

BILLING CODE 4510-27-P